NUCLEAR REGULATORY COMMISSION

[Docket No. 40-8968-ML]

Notice of Appointment of Adjudicatory Employees

Commissioners: Dale E. Klein, Chairman; Edward McGaffigan, Jr.; Jeffrey S. Merrifield; Gregory B. Jaczko; Peter B. Lyons.

In the Matter of Hydro Resources, Inc. (P.O. Box 777, Crownpoint, NM 87313)

Pursuant to 10 CFR 2.4, notice is hereby given that Mr. Jon Peckinpaugh, Commission employee of the Office of Nuclear Material Safety and Safeguards, Division of Waste Management and Environmental Protection, and Mr. Bruce Watson, Commission employee of the Office of Federal and State Materials and Environmental Management Programs, Decommissioning and Uranium Recovery Licensing Directorate, have been appointed as Commission adjudicatory employees within the meaning of Section 2.4, to advise the Commission regarding issues related to the pending Commission review of LBP-06-19. Messrs. Peckinpaugh and Watson have not previously performed any investigative or litigating function in connection with this or any related proceeding. Until such time as a final decision is issued in this matter, interested persons outside the agency and agency employees performing investigative or litigating functions in this proceeding are required to observe the restrictions of 10 CFR 2.780 and 2.781 ¹ in their communications with Messrs. Peckinpaugh and Watson.

¹ These rule designations are from our former Part 2, which has been revised and renumbered. See “Changes to Adjudicatory Process,” 69 FR 2182 (Jan. 14, 2004). For cases such as this one, docketed prior to February 13, 2004, the previous procedural rules, including 10 CFR 2.780 and 2.781, continue to apply. Substantially equivalent rules now appear at 10 CFR 2.347 and 2.348.

It is so ordered.

Dated at Rockville, Maryland this 1st day of November 2006.
For the Commission.
Annette L. Vietti-Cook,
Secretary of the Commission.

[FR Doc. E6-18715 Filed 11-6-06; 8:45 am]

BILLING CODE 7590-01-P